DEPARTMENT OF ENERGY

Federal Energy Regulatory Commission

[Docket No. CP00-48-001]

Tennessee Gas Pipeline Company; Notice of Application

February 3, 2000.

Take notice that on January 24, 2000, Tennessee Gas Pipeline Company (Tennessee), 1001 Louisiana, Houston, Texas 77002, filed in Docket No. CP-48-000, to amend its original application (Application) filed in that docket on December 10, 1999. Tennessee states that the purpose of the amendment is to revise that text of the Application and certain exhibits to correct an inadvertent mistake in the rate amounts originally provided. The rate is changed from a fixed monthly reservation charge of $1,1967 per dekatherm (Dth) and a fixed commodity charge of $.0031 per Dth to a fixed monthly reservation charge of $1.1298 per Dth and a fixed commodity charge of $.0053. Tennessee also states that it seeks to amend certain language in the Application and in an exhibit to the transportation agreement included with the Application in order to clarify the surcharges that it intends to discount under the negotiated rate agreement proposed in the Application. Tennessee requests that the Commission approve the Application as amended by September 1, 2000.

Any person desiring to be heard or to make any protest with reference to said application should on or before February 24, 2000, file with the Federal Energy Regulatory Commission, 888 First Street, NE, Washington, DC 20426, a motion to intervene or a protest in accordance with the requirements of the Commission's Rules of Practice and Procedure (18 CFR 385.214 and 385.211) and the Regulations under the Natural Gas Act (18 CFR 157.10). All protests filed with the Commission will be considered by it in determining the appropriate action to be taken but will not serve to make the protestants parties to the proceeding. Any person wishing to become a party to a proceeding or to participate as a party in any hearing therein must file a motion to intervene in accordance with the Commission's Rules.

Take further notice that, pursuant to the authority contained in and subject to jurisdiction conferred upon the Federal Energy Regulatory Commission by Section 7 and 15 of the Natural Gas Act and the Commission's Rules of Practice and Procedure, a hearing will be held without notice before the Commission or its designee on this application if no motion to intervene is filed within the time required herein, if the Commission on its own review of the matter finds that a grant of the certificate is required by the public convenience and necessity. If a motion for leave to intervene is timely filed, or if the Commission on its motion believes that a formal hearing is required, further notice of such hearing will be duly given.

Under the procedure herein provided for, unless otherwise advised, it will be unnecessary for Tennessee to appear or be represented at the hearing.

David P. Boergers,
Secretary.

[FR Doc. 00-2888 Filed 2-8-00; 8:45 am]

BILLING CODE 6717-01-M